NUCLEAR REGULATORY COMMISSION

[NRC-2016-0001]

Sunshine Act Meeting Notice

DATE: May 23, 30, June, 6, 13, 20, 27, 2016.

PLACE: Commissioners' Conference Room, 11555 Rockville Pike, Rockville, Maryland.

STATUS: Public and Closed.

Week of May 23, 2016

There are no meetings scheduled for the week of May 23, 2016.

Week of May 30, 2016—Tentative

Wednesday, June 1, 2016

9:00 a.m. Briefing on Security Issues (Closed Ex. 1).

Thursday, June 2, 2016

9:00 a.m. Briefing on Results of the Agency Action Review Meeting (Public Meeting) (Contact: Andrew Waugh: 301-415-5601).

This meeting will be webcast live at the Web address— http://www.nrc.gov/.

2:00 p.m. Discussion of Management and Personnel Issues (Closed—Ex. 2 & 6).

Week of June 6, 2016—Tentative

There are no meetings scheduled for the week of June 6, 2016.

Week of June 13, 2016—Tentative

There are no meetings scheduled for the week of June 13, 2016.

Week of June 20, 2016—Tentative

Monday, June 20, 2016

9:00 a.m. Meeting with Department of Energy Office of Nuclear Energy (Public Meeting) (Contact: Albert Wong: 301-415-3081).

This meeting will be webcast live at the Web address— http://www.nrc.gov/.

Thursday, June 23, 2016

9:00 a.m. Discussion of Security Issues (Closed Ex. 3).

Week of June 27, 2016—Tentative

Tuesday, June 28, 2016

9:30 a.m. Briefing on Human Capital and Equal Opportunity Employment (Public Meeting) (Contact: Kristin Davis: 301-287-0707)

This meeting will be webcast live at the Web address— http://www.nrc.gov/.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: May 20, 2016.
Glenn Ellmers,
Policy Coordinator, Office of the Secretary.

[FR Doc. 2016-12337 Filed 5-20-16; 4:15 pm]

BILLING CODE 7590-01-P